DEPARTMENT OF ENERGY

Federal Energy Regulatory Commission

[Docket No. ER02-263-000, et al.]

Alliant Energy Corporate Services, Inc., et al. Electric Rate and Corporate Regulation Filings

November 8, 2001.

Take notice that the following filings have been made with the Commission:

1. Alliant Energy Corporate Services, Inc.

[Docket No. ER02-263-000]

Take notice that on November 6, 2001, Alliant Energy Corporate Services, Inc. tendered for filing with the Federal Energy Regulatory Commission (Commission) revised tariff sheets relating to its System Coordination and Operating Agreement (SCOA) in the above referenced docket.

A copy of this filing has been served upon the Illinois Commerce Commission, the Minnesota Public Utilities Commission, the Iowa Department of Commerce and the Public Service Commission of Wisconsin.

Comment date: November 27, 2001, in accordance with Standard Paragraph E at the end of this notice.

2. People's Electric Cooperative

[Docket No. ER02-264-000]

Take notice that on November 6, 2001, People's Electric Cooperative, tendered for filing with the Federal Energy Regulatory Commission (Commission) proposed changes in its FERC Rate Schedule No.2. People's proposes to amend appendix A of its Transmission Service Agreement with the Byng Public Works Authority (BPWA) to provide for an additional delivery point. This change reflects an agreement between the parties.

Copies of the filing were served upon Byng Public Works Authority, Ada, Oklahoma, and the Oklahoma Corporation Commission.

Comment date: November 27, 2001, in accordance with Standard Paragraph E at the end of this notice.

3. Louisville Gas and Electric Company/Kentucky Utilities Company

[Docket No. ER02-265-000]

Take notice that on November 6, 2001, Louisville Gas and Electric Company (LG&E)/Kentucky Utilities (KU) (hereinafter Companies) tendered for filing with the Federal Energy Regulatory Commission (Commission) an executed Netting Agreement between the Companies and CMS Marketing Services and Trading Company.

Comment date: November 27, 2001, in accordance with Standard Paragraph E at the end of this notice.

4. Progress Energy Inc., on behalf of Carolina Power & Light Company

[Docket No. ER02-266-000]

Take notice that on November 6, 2001, Carolina Power & Light Company (CP&L) tendered for filing with the Federal Energy Regulatory Commission (Commission) an executed Service Agreement between CP&L and the following eligible buyer, Monroe Power Company. Service to this eligible buyer will be in accordance with the terms and conditions of CP&L's Market-Based Rates Tariff, FERC Electric Tariff No. 5. Copies of the filing were served upon the North Carolina Utilities Commission and the South Carolina Public Service Commission.

CP&L requests an effective date of October 17, 2001 for this Service Agreement.

Comment date: November 27, 2001, in accordance with Standard Paragraph E at the end of this notice.

5. Arizona Public Service Company

[Docket No. ER02-268-000]

Take notice that on November 6, 2001, Arizona Public Service Company (APS) tendered for filing with the Federal Energy Regulatory Commission (Commission) a cancellation of two service agreements with Tohono O'odham Utility Authority.

A copy of this filing has been served on Tohono O'odham Utility Authority and the Arizona Corporation Commission.

Comment date: November 27, 2001, in accordance with Standard Paragraph E at the end of this notice.

6. Mill Run WindPower LLC

[Docket No. ER02-269-000]

Take notice that on November 6, 2001, Mill Run Windpower LLC (Mill Run), filed with the Federal Energy Regulatory Commission (Commission) the Power Purchase Agreement by and between Mill Run and Exelon Generation Company, LLC (Exelon), dated as of February 14, 2001, as amended by the First Amendment Power Purchase Agreement, (PPA). The filing is made pursuant to Mill Run's authority to sell power at market-based rates under its Market-Based Rate Tariff, Original Sheet No. 1, Original Volume No. 1, approved by the Commission on July 17, 2001 in Docket No. ER01-1710-001.

Comment date: November 27, 2001, in accordance with Standard Paragraph E at the end of this notice.

7. Somerset Windpower LLC

[Docket No. ER02-270-000]

Take notice that on November 6, 2001, Somerset Windpower LLC (Somerset), filed with the Federal Energy Regulatory Commission (Commission) the Power Purchase Agreement by and between Somerset and Exelon Generation Company, LLC (Exelon), dated as of April 4, 2001. The filing is made pursuant to Somerset's authority to sell power at market-based rates under its Market-Based Rate Tariff, Second Revised Sheet No. 1, Original Volume No. 1 (Docket No. ER01-2139-002), approved by the Commission on July 20, 2001 in Docket No. ER01-2139-001.

Comment date: November 27, 2001, in accordance with Standard Paragraph E at the end of this notice.

8. American Transmission Company LLC

[Docket No. ER02-272-000]

Take notice that on November 6, 2001, American Transmission Company LLC (ATCLLC) tendered for filing with the Federal Energy Regulatory Commission (Commission) an executed Distribution-Transmission Interconnection Agreement between ATCLLC and Marshfield Electric & Water Department. ATCLLC requests an effective date of June 19, 2001.

Comment date: November 27, 2001, in accordance with Standard Paragraph E at the end of this notice.

9. American Transmission Company LLC

[Docket No. ER02-273-00]

Take notice that on November 6, 2001, American Transmission Company LLC (ATCLLC) tendered for filing with the Federal Energy Regulatory Commission (Commission) an executed Distribution-Transmission Interconnection Agreement between ATCLLC and City of Sturgeon Bay. ATCLLC requests an effective date of June 25, 2001.

Comment date: November 27, 2001, in accordance with Standard Paragraph E at the end of this notice.

10. NRG McClain LLC

[Docket No. ER02-68-001]

Take notice that on November 6, 2001, NRG McClain LLC (NRG McClain) filed a Notice of Succession informing the Federal Energy Regulatory Commission (Commission) that the name Duke Energy McClain, LLC had been changed to NRG McClain. NRG McClain also submitted with the Notice of Succession tariff sheets with the changed name, that is, NRG McClain. The tariff sheets submitted by NRG McClain were designated “Revised” Sheet Nos. 1, 2 and 3. However, the tariff sheets should instead have been designated “Original” Sheet Nos. 1, 2 and 3. Accordingly, on November 6, 2001, NRG McClain amended its October 10, 2001 filing, withdrew the tariff sheets filed on October 10, 2001 and replaced the tariff sheets filed on October 10, 2001 with those filed on November 6, 2001.

Comment date: November 27, 2001, in accordance with Standard Paragraph E at the end of this notice.

11. Somerset Windpower LLC and EWO Wind, LLC

[Docket No. EC02-18-000]

Take notice that on November 2, 2001, Somerset Windpower LLC (Somerset) and EWO Wind, LLC (EWO and, collectively with Somerset, Applicants) filed with the Federal Energy Regulatory Commission (Commission) a joint application pursuant to section 203 of the Federal Power Act for authorization of a disposition of jurisdictional facilities whereby Applicants request approval of the transfer of between 98% and 100% of the membership interests in Somerset from Atlantic Renewable Energy Corporation and Zilkha Renewable Energy, LLC to EWO.

Somerset is engaged exclusively in the business of owning and operating a 9 MW wind-powered electric generating facility located in Somerset Township, Somerset County, Pennsylvania (the “Facility”), and selling its capacity and energy at wholesale to Exelon Power Generation LLC. The Applicants request privileged treatment by the Commission of the detailed Term Sheet between Zilkha Renewable Energy, LLC and Entergy Power Generation Corp. that governs the proposed transfer.

Comment date: November 23, 2001, in accordance with Standard Paragraph E at the end of this notice.

12. Northern Iowa Windpower LLC and EWO Wind, LLC

[Docket No. EC02-19-000]

Take notice that on November 2, 2001, Northern Iowa Windpower LLC (Northern Iowa) and EWO Wind, LLC (EWO and, collectively with Northern Iowa, the Applicants) filed with the Federal Energy Regulatory Commission a joint application pursuant to section 203 of the Federal Power Act for authorization of a disposition of jurisdictional facilities whereby Applicants request approval of the transfer of between 98% and 100% of the membership interests in Northern Iowa from Midwest Renewable Energy Corporation and Zilkha Renewable Energy, LLC to EWO.

Northern Iowa is engaged exclusively in the business of owning and operating a 80 MW wind-powered electric generating facility located in Worth County, Iowa (the “Facility”), and selling its capacity and energy at wholesale to Wisconsin Power and Light Company. The Applicants request privileged treatment by the Commission of the detailed Term Sheet between Zilkha Renewable Energy, LLC and Entergy Power Generation Corp. that governs the proposed transfer.

Comment date: November 23, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-28723 Filed 11-15-01; 8:45 am]

BILLING CODE 6717-01-P